DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before January 14, 2008.

ADDRESSES: Written data or comments should be submitted to the U.S. Fish and Wildlife Service, Endangered Species Program Manager, Region 8, 2800 Cottage Way, Room W-2606, Sacramento, CA, 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-168924

Applicant: Jeff E. Gurule, North Fork, California.

The applicant requests a permit to take (capture, and collect and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-168923

Applicant: Randall L. Stringer, Carmichael, California.

The applicant requests a permit to take (capture, and collect and kill) the Conservancy fairy shrimp (Branchinecta conservatio), the longhorn fairy shrimp (Branchinecta longiantenna), the Riverside fairy shrimp (Streptocephalus wootoni), and the vernal pool tadpole shrimp (Lepidurus packardi) in conjunction with surveys throughout the range of each species in California for the purpose of enhancing their survival.

Permit No. TE-043630

Applicant: San Francisco Estuary Institute, Oakland, California

The applicant requests an amendment to take (harass by survey) the California clapper rail (Rallus longirostris obsoletus) in conjunction with ecological research in San Francisco, Contra Costa, Sacramento, Solano, Napa, Sonoma, and Marin Counties for the purpose of enhancing its survival.

Permit No. TE-066621

Applicant: Naval Base Ventura County Point Mugu, Point Mugu, California.

The permittee requests and amendment to take (harass by survey) the light footed clapper rail (Rallus longirostris levipes) and take (band chicks) the California least tern (Sterna antillarum browni) in conjunction with surveys and population monitoring at Naval Base Ventura County Point Mugu, California, for the purpose of enhancing their survival.

Permit No. TE-110373

Applicant: Eric F. Kline, San Diego, California.

The applicant requests an amendment to take (survey by pursuit) the Quino checkerspot butterfly (Euphydryas editha quino) in conjunction with surveys throughout the range of the species in California for the purpose of enhancing its survival.

Permit No. TE-168927

Applicant: Drew C. Stokes, San Diego, California.

The permittee requests a permit to take (harass by survey, capture, handle, tag, collect tissue, mark by toe-clipping, and release) the arroyo southwestern toad (Bufo microscaphus californicus) in conjunction with surveys throughout the range of the species in California for the purpose of enhancing its survival.

Permit No. TE-839480

Applicant: Richard Zembal, Laguna Hills, California.

The applicant requests an amendment to take (harass by survey and monitor) the California least tern (Sterna antillarum browni) in conjunction with population monitoring and other life history studies in Orange County California for the purpose of enhancing its survival.

Permit No. TE-168926

Applicant: Kailash K. Mozumder, Encinitas, California.

The applicant requests a permit to take (survey by pursuit) the Quino checkerspot butterfly (Euphydryas editha quino) in conjunction with surveys throughout the range of the species in California for the purpose of enhancing its survival.

Permit No. TE-168957

Applicant: Virginia M. VonBerg, San Luis Obispo, California.

The applicant requests a permit to take (capture, and collect and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-142435

Applicant: Debra Shier, Topanga, California.

The applicant requests an amenment to take (capture, handle, mark, translocate, and release) the Stephens' kangaroo rat (Dipodomys stephensi) in conjunction with surveys and population monitoring throughout the range of the species in California for the purpose of enhancing its survival.

We solicit public review and comment on each of these recovery permit applications. Comments and materials we receive will be available for public inspection, by appointment, during normal business hours at the address listed in the ADDRESSES section of this notice.

Dated: December 10, 2007.
Michael Fris,
Acting Regional Director, Region 8, Sacramento, California.

[FR Doc. E7-24246 Filed 12-13-07; 8:45 am]

BILLING CODE 4310-55-P